NATIONAL SCIENCE FOUNDATION

Proposal Review Panel for Physics; Notice of Meeting

In accordance with the Federal Advisory Committee Act (Pub. L. 92-463, as amended), the National Science Foundation announces the following meeting:

Name: Site Visit to the Center for the Physics of Living Cells #1208.

Dates/Time: November 8, 2010, 9 a.m.-4 p.m.; November 9, 2010, 9 a.m.-5 p.m.

Place: University of Illinois, Urbana-Champaign.

Type of Meeting: Partially Closed.

Contact Person: Dr. C. Denise Caldwell, Program Director, Rm. 1015, National Science Foundation, 4201 Wilson Blvd., Arlington, VA 22230, (703) 292-7371.

Purpose of Meeting: To provide advice and recommendations concerning progress of the Center for the Physics of Living Cells (CPLC).

Agenda

Monday, November 8, 2010

9 a.m.-11:55 a.m.—Open—Directors Overview, Four Research Talks.

1:30 p.m.-4:00 p.m.—Closed—Discussions with staff and faculty, Executive Sessions.

Tuesday, November 9, 2010

9 a.m.-5 p.m.—Closed—Executive Session, review and drafting report.

Reason for Late Notice: Due to unforeseen scheduling and administrative complications and the necessity to proceed with the review.

Reason for Closing: The work being reviewed may include information of a proprietary or confidential nature, including technical information; financial data such as salaries; and personal information concerning individuals associated with the center. These matters are exempt under (4) and (6) of 5 U.S.C. 552b(c), of the Government in the Sunshine Act.

Dated: October 26, 2010.
Susanne Bolton,
Committee Management Officer.

[FR Doc. 2010-27478 Filed 10-29-10; 8:45 am]

BILLING CODE 7555-01-P